DEPARTMENT OF COMMERCE

Foreign-Trade Zones Board

[Order No. 2073]

Reorganization of Foreign-Trade Zone 81 Under Alternative Site Framework; Portsmouth, New Hampshire

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the Pease Development Authority, grantee of Foreign-Trade Zone 81, submitted an application to the Board (FTZ Docket B-6-2018, docketed on January 30, 2018 and amended on August 1, 2018) for authority to reorganize under the ASF with a service area of the Counties of Rockingham, Strafford, Carroll (partial), Belknap (partial), Cheshire, Hillsborough, Merrimack (partial), Sullivan and Grafton (partial), New Hampshire, in and adjacent to the Portsmouth Customs and Border Protection port of entry, FTZ 81's existing Sites 1, 2, 4 and 5 would be categorized as magnet sites and existing Site 6 would be categorized as a usage-driven site;

Whereas, notice inviting public comment was given in the Federal Register (83 FR 4896-4897, February 2, 2018) and the application has been processed pursuant to the FTZ Act and the Board's regulations; and,

Whereas, the Board adopts the findings and recommendations of the examiner's report, and finds that the requirements of the FTZ Act and the Board's regulations are satisfied;

Now, therefore, the Board hereby orders:

The amended application to reorganize FTZ 81 under the ASF is approved, subject to the FTZ Act and the Board's regulations, including Section 400.13, to the Board's standard 2,000-acre activation limit for the zone, to an ASF sunset provision for magnet sites that would terminate authority for Sites 1, 2, 4 and 5 if not activated within five years from the month of approval, and to an ASF sunset provision for usage-driven sites that would terminate authority for Site 6 if no foreign-status merchandise is admitted for a bona fide customs purpose within three years from the month of approval.

Dated: November 8, 2018.
Gary Taverman,
Deputy Assistant Secretary for Antidumping and Countervailing Duty Operations, performing the non-exclusive functions and duties of the Assistant Secretary for Enforcement and Compliance, Alternate Chairman, Foreign-Trade Zones Board.

[FR Doc. 2018-24936 Filed 11-14-18; 8:45 am]

BILLING CODE 3510-DS-P